DEPARTMENT OF HOMELAND SECURITY

Coast Guard

[Docket No. USCG-2020-0528]

Certificates of Alternative Compliance for the Eighth Coast Guard District

AGENCY: Coast Guard, DHS.

ACTION: Notification of issuance of certificates of alternative compliance.

SUMMARY: The Coast Guard announces that the Eighth Coast Guard District's Prevention Division has issued certificates of alternative compliance from the International Regulations for Preventing Collisions at Sea, 1972 (72 COLREGS), to vessels of special construction or purpose that cannot fully comply with the light, shape, and sound signal provisions of 72 COLREGS without interfering with the vessel's design and construction. We are issuing this notice because its publication is required by statute. This notification of issuance of certificates of alternative compliance promotes the Coast Guard's marine safety mission.

DATES: These Certificates of Alternative Compliance were issued between January 2015 and May 2020.

FOR FURTHER INFORMATION CONTACT: For information or questions about this notice call or email LTJG Elliot VanDeren, District Eight, Prevention Division, U.S. Coast Guard, telephone 504-671-2126, email Elliot.D.VanDeren@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division then issues the applicant a certificate of alternative compliance (COAC) if he or she determines that the vessel cannot comply fully with 72 COLREGS light, shape, and sound signal provisions without interference with the vessel's special function.³ If the Coast Guard issues a COAC, it must publish notice of this action in the Federal Register.⁴

² 33 CFR 81.5.

³ 33 CFR 81.9.

⁴ 33 U.S.C. 1605(c) and 33 CFR 81.18.

The Eighth Coast Guard District has issued COACs to the following vessels from January 2015 to May 2020:

Year | Vessel name | Details
2015 | CAROLINE F MCCALL | This certificate authorized the placement of the vessel's forward masthead light on the top of the pilothouse, 15′ 11-5/8″ above the hull, and its aft masthead light on the main mast above the pilot house, 9′ 9″ aft of the forward masthead light.
2015 | ALYA MCCALL | This certificate authorized the placement of the vessel's forward masthead light on the top of the purposed hand rail, 18′ 8-13/16″ above the hull, and its aft masthead light on the main mast above the pilot house, 9′ 9″ aft of the forward masthead light.
2015 | ADRIATIC | This certificate authorized the placement of the vessel's aft masthead light on the pilothouse, 30′ aft of the forward masthead light.
2015 | MARIYA MORAN | This certificate authorized the placement of the vessel's sidelights 6′ 3″ from the sides of the vessel.
2015 | SHELIA BORDELON | This certificate authorized the placement of the vessel's aft masthead light on the main mast above the pilothouse, 17′ 6-1/8″ aft of the forward masthead light.
2015 | LENNY J | This certificate authorized the placement of the vessel's side lights 36″ below the forward masthead light and placement of its masthead lights in a vertical line, 36″ apart from each other.
2015 | GEMI | This certificate authorized the placement of the vessel's masthead light on the pilothouse, 19′ 6-3/4″ aft of the forward masthead light.
2016 | NAJLA MCCALL | This certificate authorized the placement of the vessel's forward masthead light on the top of the purposed hand rail, 18′ 8-13/16″ above the hull, and its aft masthead light on the main mast above the pilot house, 9′ 9″ aft of the forward masthead light.
2016 | HERMES | This certificate authorized the placement of the vessel's aft masthead light on the pilothouse, 23′ 11-1/2″ aft of the forward masthead light.
2016 | PAUL CANDIES | This certificate authorized the placement of the vessel's forward masthead light on the flight deck, 11′ 3-3/16″ forward of the aft masthead light.
2016 | DEFENDER | This certificate authorized the placement of the vessel's forward masthead light 29′ 3″ above the hull.
2017 | FANTASY ISLAND | This certificate authorized the placement of the vessel's after masthead light on the main mast above the pilot house, 25′ 11-7/16″ aft of the forward masthead light.
2017 | ELLIS ISLAND | This certificate authorized the placement of the vessel's sidelights atop the pilot house, 15′ 11-3/4″ inboard from the side shell.
2017 | Conrad hull C1151 | This certificate authorized the placement of the vessel's forward anchor light 5′ 1-3/8″ above its aft anchor light.
2017 | Conrad hull C1152 | This certificate authorized the placement of the vessel's forward anchor light 5′ 1-3/8″ above its aft anchor light.
2017 | CAROLYN CHOUEST | This certificate authorized the placement of the vessel's aft masthead light on the main mast atop the pilot house, 25′ 4-11/16″ aft of the forward masthead light.
2017 | JUDITH ANN | This certificate authorized the placement of the vessel's after masthead light on the main mast atop the pilot house, 16′ 10-15/16″ aft of the forward masthead light.
2017 | GARY CHOUEST | This certificate authorized the placement of the vessel's aft masthead light on the main mast atop the pilot house, 28′-11/16″ aft of the forward masthead light.
2017 | COMMANDER | This certificate authorized the placement of the vessel's masthead light on the main mast atop the pilot house, 60′ 11-1/8″ aft of the stem. Additionally this certificate authorized the placement of the vessel's sidelights 8′ inboard from the side shell and placement of the RAM/NUC lights 3′ 3-13/16″ off centerline.
2017 | MARGARET ANN | This certificate authorized the placement of the vessel's sidelights forward of the forward masthead light, 15′ 10-11/16″ aft of the stem.
2017 | OSRB 4 | This certificate authorized the placement of the vessel's sidelights 8′ 8″ inboard of the side shell.
2018 | COURAGEOUS | This certificate authorized the placement of the vessel's masthead light on the main mast atop the pilot house, 60′ 11-1/8″ aft of the stem. Additionally this certificate authorized the placement of the vessel's sidelights 8′ inboard from the side shell and placement of the RAM/NUC lights 3′ 3-13/16″ off centerline.
2018 | CONTENDER | This certificate authorized the placement of the vessel's masthead light on the main mast atop the pilot house, 60′ 11-1/8″ aft of the stem. Additionally this certificate authorized the placement of the vessel's sidelights 8′ inboard from the side shell and placement of the RAM/NUC lights 3′ 3-13/16″ off centerline.
2018 | CHAMPION | This certificate authorized the placement of the vessel's masthead light on the main mast atop the pilot house, 60′ 11-1/8″ aft of the stem. Additionally this certificate authorized the placement of the vessel's sidelights 8′ inboard from the side shell and placement of the RAM/NUC lights 3′ 3-13/16″ off centerline.
2018 | CHALLENGER | This certificate authorized the placement of the vessel's masthead light on the main mast atop the pilot house, 60′ 11-1/8″ aft of the stem. Additionally this certificate authorized the placement of the vessel's sidelights 8′ inboard from the side shell and placement of the RAM/NUC lights 3′ 3-13/16″ off centerline.
2018 | HOS WARHORSE | This certificate authorized the placement of the vessel's aft masthead light on the main mast atop the pilot house, 111′ aft of the forward masthead light. Additionally, this certificate authorized the placement of the vessel's sidelights on the bridge wings. This certificate also allowed two sets of RAM/NUC lights on the starboard side of the mast, screened in such a way as to allow an unbroken 360 degree arc of visibility.
2018 | HOS WILD HORSE | This certificate authorized the placement of the vessel's aft masthead light on the main mast atop the pilot house, 111′ aft of the forward masthead light. Additionally, this certificate authorized the placement of the vessel's sidelights on the bridge wings. This certificate also allowed two sets of RAM/NUC lights on the starboard side of the mast, screened in such a way as to allow an unbroken 360 degree arc of visibility.
2018 | ELRINGTON | This certificate authorized the placement of the vessel's sidelights 4′ 3″ forward of the masthead light and 16′ 3″ inboard of the side shell.
2018 | LATOUCHE | This certificate authorized the placement of the vessel's sidelights 4′ 3″ forward of the masthead light and 16′ 3″ inboard of the side shell.
2018 | BAINBRIDGE | This certificate authorized the placement of the vessel's sidelights 4′ 3″ forward of the masthead light and 16′ 3″ inboard of the side shell.
2018 | INGOT | This certificate authorized the placement of the vessel's sidelights 4′ 3″ forward of the masthead light and 16′ 3″ inboard of the side shell.
2018 | CAPE ANN | This certificate authorized the placement of the vessel's sidelights on the elevated pilothouse, 6′ 7″ inboard of the sides of the vessel.
2018 | YOUNGS TIDE | This certificate authorized the placement of the vessel's aft masthead light on the main mast atop the pilot house, 20′ 10″ aft of the forward masthead light
2018 | SEACOR TOTONACA | This certificate authorized the placement of the vessel's aft masthead light on the main mast atop the pilot house, 24′ 4″ aft of the forward masthead light
2018 | CC PORTLAND | This certificate authorized the placement of the vessel's sidelights 4′ 3″ forward of the masthead light and 16′ 3″ inboard of the side shell.
2018 | CC ARANSAS | This certificate authorized the placement of the vessel's sidelights 4′ 3″ forward of the masthead light and 16′ 3″ inboard of the side shell.
2018 | CC LA QUINTA | This certificate authorized the placement of the vessel's sidelights 4′ 3″ forward of the masthead light and 16′ 3″ inboard of the side shell.
2018 | CC GREGORY | This certificate authorized the placement of the vessel's sidelights 4′ 3″ forward of the masthead light and 16′ 3″ inboard of the side shell.
2018 | WACHAPREAGUE | This certificate authorized the placement of the vessel's sidelights 8′ 1″ off the centerline.
2018 | CHINCOTEAGUE | This certificate authorized the placement of the vessel's sidelights 8′ 1″ off the centerline.
2018 | CAPE LOOKOUT | This certificate authorized the placement of the vessel's sidelights 6′ 7″ inboard from the sides of the vessel.
2018 | CAPE HENRY | This certificate authorized the placement of the vessel's sidelights 6′ 7″ inboard from the sides of the vessel.
2018 | EVENING BREEZE | This certificate authorized the placement of a set of RAM/NUC lights 3′ 6″ off centerline of the mast, screened in such a way as to allow an unbroken 360 degree arc of visibility. Additionally, this certificate authorized the placement of one set of sidelights on the upper pilot house, 12′ 11″ inboard from the sides of the vessel, and the other set on the lower pilot house, 9′ 3″ inboard from the sides of the vessel.
2018 | DEER ISLAND | This certificate authorized the placement of the vessel's aft masthead light on the main mast atop the pilot house, 26′ 9-7/8″ aft of the forward masthead light.
2018 | MARK E. KUEBLER | This certificate authorized the placement of the vessel's sidelights 10′ 10-3/4″ inboard from the sides of the vessel and authorized the lights on its mast, carried in a vertical line, to be spaced less than two meters apart. Additionally, this certificate authorized the vessel's lights on its mast to be spaced less than two meters apart from the fore and aft centerline of the vessel in the athwartship direction. This certificate also authorized the placement of the vessel's masthead light 39′ 4-5/8″ above the hull.
2018 | POWHATAN | This certificate authorized the placement of the vessel's sidelights 21′ 10-1/2″ inboard from the side of the vessel.
2018 | FUGRO ENTERPRISE | This certificate authorized the placement of the vessel's after masthead light on the main mast atop the pilot house, 42′ 6-1/2″ aft of the forward masthead light, sidelights on the bridge wings, 10′ 6″ off the centerline of the vessel, and two sets of RAM/NUC lights 3′ 8″ off the centerline of the mast, screened in such a way as to allow an unbroken 360 degree arc of visibility.
2018 | MICHAEL CROMBIE MCCALL | This certificate authorized the placement of the vessel's forward masthead light on the top of the pilothouse, 26′ 3-10/16″ above the hull, and its aft masthead light on the main mast above the pilothouse, 11′ 1-3/16″ aft and 14′ 3-5/8″ above the forward masthead light.
2019 | BAILEY | This certificate authorized the placement of the vessel's side lights 7′ 9″ inboard from the sides of the vessel.
2019 | TED C. LITTON | This certificate authorized the placement of the vessel's sidelights 10′ 10-3/4″ inboard from the sides of the vessel, and authorized the lights on its mast carried in a vertical line to be spaced less than two meters apart. Additionally, this certificate authorized the lights on its mast to be spaced less than two meters apart from the fore and aft centerline of the vessel in the athwartship direction. This certificate also authorized the placement of the vessel's masthead light 39′ 4-5/8″ above the hull.
2019 | CHRISTIAN CHOUEST | This certificate authorized the placement of the vessel's after masthead light on the main mast atop the pilothouse, 21′ 9-11/16″ aft of the forward masthead light.
2019 | ALLIE CHOUEST | This certificate authorized the placement of the vessel's after masthead light on the main mast atop the pilothouse, 21′ 9-11/16″ aft of the forward masthead light.
2019 | GAVEA | This certificate authorized the placement of the vessel's aft masthead light on the main mast atop the pilothouse, 21′ 9-11/16″ aft of the forward masthead light.
2019 | CONNOLLY M | This certificate authorized the placement of the vessel's sidelights 10′ 10-3/4″ inboard from the sides of the vessel, and authorized the lights on its mast carried in a vertical line to be spaced less than two meters apart. Additionally, this certificate authorized the lights on its mast to be spaced less than two meters apart from the fore and aft centerline of the vessel in the athwartship direction. This certificate also authorized the placement of the vessel's masthead light 39′ 4-5/8″ above the hull.
2019 | ANDREW S. | This certificate authorized the placement of the vessel's sidelights on the elevated pilothouse, 13′ inboard of the sides of the vessel, the placement of the masthead light 42′ 4″ above the hull, and the placement of the stern light on the aft most mast on the elevated pilothouse.
2019 | ALYSSA CHOUEST | This certificate authorized the placement of the vessel's stern light 188′ 6″ aft of the forward perpendicular, on the centerline, and 37′ 7″ above the main deck on the winch platform.
2019 | COOPER K. | This certificate authorized the placement of the vessel's sidelights on the elevated pilothouse, 10′ 10-3/4″ inboard from the sides of the vessel, and the masthead light 22′ 7-1/8″ above the hull when the mast is in the lowered position.
2019 | GUYANA HERO | This certificate authorized the placement of the vessel's stern light 49′ 2″ above the main deck, on the centerline, at frame 33 of the elevated pilothouse.
2019 | MAZU | This certificate authorized the placement of the vessel's sidelights on the elevated pilot house, 10′ 1″ outboard from the centerline of the vessel, the placement of the masthead light on the mast, 22′ 7-1/8″ above the hull when the mast is in the lowered position, and the placement of the RAM/NUC lights 1′ 6″ off centerline, starting 25′ 5-1/8″ above the hull and vertically spaced 6′ 7″.
2019 | GENERAL MACARTHUR | This certificate authorized the placement of the vessel's stern light on the dredge ladder end, 25′ off centerline, the placement of the forward anchor light on the pilot house at a height of 62′ atop the pilot house mast, only 6′ above the aft anchor light, and the placement of the aft anchor light on the dredge ladder A-frame, 3′ 4″ off centerline and at a height of 56′ above the baseline, with a 19 degree obstruction from the dredge boom crane.
2019 | C. D. WHITE | This certificate authorized the placement of the vessel's sidelights on the elevated pilot house, 6′ outboard from the centerline of the vessel, and the placement of the RAM/NUC lights 1′ 8″ off centerline, starting 25′ 8-1/16″ above the hull and vertically spaced 6′ 7″.
2020 | CECIL M | This certificate authorized the placement of the vessel's sidelights on the elevated pilot house, 10′ 1″ outboard from the centerline of the vessel, the placement of the masthead light on the mast, 22′ 7-1/8″ above the hull when the mast is in the lowered position, and the placement of the RAM/NUC lights 1′ 6″ off centerline, starting 25′ 5-1/8″ above the hull and vertically spaced 6′ 7″.
2020 | SEACOR MIXTECA | This certificate authorized the placement of the vessel's aft masthead light on the main mast, 24′ 4″ aft of the forward masthead light, and the placement of the stern light on the centerline, 38′ 5-1/2″ above the main deck on the aft end of the pilothouse.
2020 | SEACOR TARAHUMARA | This certificate authorized the placement of the vessel's aft masthead light on the main mast, 24′ 4″ aft of the forward masthead light, and the placement of the stern light on the centerline, 38′ 5-1/2″ above the main deck on the aft end of the pilothouse.
2020 | KING | This certificate authorized the placement of the vessel's sidelights on the pilot house, 6′ 1-1/2″ outboard from the centerline of the vessel.
2020 | GEMINI | This certificate authorized the placement of the vessel's sidelights on the elevated pilot house, 10′ 1″ outboard from the centerline of the vessel, the placement of the masthead light on the mast, 22′ 7-1/8″ above the hull when the mast is in the lowered position, and the placement of the RAM/NUC lights 1′ 6″ off centerline, starting 25′ 5-1/8″ above the hull and vertically spaced 6′ 7″.

The Eighth Coast Guard District's Prevention Division, U.S. Coast Guard, certifies that the vessels listed above are of special construction or purpose and are unable to comply fully with the requirements of the provisions enumerated in the 72 COLREGS, without interfering with the normal operation, construction, or design of the vessels. The Eighth Coast Guard District's Prevention Division, U.S. Coast Guard, further finds and certifies that the listed vessels are in the closet possible compliance with the applicable provisions of the 72 COLREGS.⁵

⁵ 33 U.S.C. 1605(a); 33 CFR 81.9.

This notice is issued under authority of 33 U.S.C. 1605(c) and 33 CFR 81.18.

Dated: Nov 17, 2020.
T.O. Phillips,
Captain, U.S. Coast Guard, Chief, Prevention Division, Eighth Coast Guard District.

[FR Doc. 2020-26293 Filed 11-27-20; 8:45 am]

BILLING CODE 9110-04-P